DEPARTMENT OF COMMERCE

International Trade Administration

[A-570-918]

Steel Wire Garment Hangers From the People's Republic of China: Final Results of Antidumping Duty Administrative Review, 2012-2013

AGENCY: Enforcement and Compliance, International Trade Administration, Department of Commerce.

SUMMARY: On November 5, 2014, the Department of Commerce (“the Department”) published the Preliminary Results of the fifth administrative review of the antidumping duty order on steel wire garment hangers from the People's Republic of China (“PRC”).¹ We invited parties to comment on the Preliminary Results. Based on our analysis of the comments and information received, we have not made changes to the final margin calculations of Shanghai Wells Hanger Co., Ltd. (“Shanghai Wells”).² Listed below in the “Final Results of the Administrative Review” section of this notice are the final dumping margins. The period of review (“POR”) is October 1, 2012, through September 31, 2013.³

¹ See Steel Wire Garment Hangers From the People's Republic of China: Preliminary Results of Antidumping Duty Administrative Review; 2012-2013, 79 FR 65616 (November 5, 2014) (“Preliminary Results”).

² The Department previously found that Shanghai Wells Hanger Co., Ltd., Hong Kong Wells Ltd. (“HK Wells”) and Hong Kong Wells Ltd. (USA) (“Wells USA”) are affiliated and that Shanghai Wells Hanger Co., Ltd. and HK Wells comprise a single entity (collectively, “Shanghai Wells”). Because there were no changes in this review to the facts that supported that decision, we continue to find Shanghai Wells, HK Wells, and USA Wells are affiliated and that Shanghai Wells and HK Wells comprise a single entity. See Steel Wire Garment Hangers From the People's Republic of China: Preliminary Results and Preliminary Rescission, in Part, of the First Antidumping Duty Administrative Review, 75 FR 68758, 68761 (November 9, 2010), unchanged in First Administrative Review of Steel Wire Garment Hangers From the People's Republic of China: Final Results and Final Partial Rescission of Antidumping Duty Administrative Review, 76 FR 27994, 27996 (May 13, 2011).

³ The deadline for the final results was March 5, 2015, however, due to inclement weather, the government was closed on March 5, 2015. Therefore, the deadline for the final results falls on the next business day, March 6, 2015.

DATES: Effective Date: March 13, 2015.

FOR FURTHER INFORMATION CONTACT: Josh Startup or Alexis Polovina, AD/CVD Operations, Office V, Enforcement and Compliance, International Trade Administration, Department of Commerce, 14th Street and Constitution Avenue NW., Washington, DC 20230; telephone: (202) 482-5260 or (202) 482-3927, respectively.

SUPPLEMENTARY INFORMATION:

Background

The Department published the Preliminary Results on November 5, 2014. On December 5, 2014, M&B Metal Products Inc. (“Petitioner”), Fabriclean Supply Inc. (“Fabriclean”), a U.S. importer and wholesaler, and Ningbo Dasheng, a mandatory respondent, submitted case briefs in the administrative review. On December 10, 2014, Petitioner submitted a rebuttal brief.

Scope of the Order

The merchandise that is subject to the order is steel wire garment hangers. The products subject to the order are currently classified under U.S. Harmonized Tariff Schedule (“HTSUS”) subheadings 7326.20.0020, 7323.99.9060, and 7323.99.9080. Although the HTSUS subheadings are provided for convenience and customs purposes, the written description of the merchandise remains dispositive. A full description of the scope of the order is contained in the Issues and Decision Memorandum,⁴ which is hereby adopted by this notice.

⁴ See the Department's Memorandum, titled “Steel Wire Garment Hangers from the People's Republic of China: Issues and Decision Memorandum for the Final Results of the Fourth Antidumping Duty Administrative Review and New Shipper Review,” dated concurrently with this notice (“Issues and Decision Memorandum”).

Analysis of Comments Received

All issues raised in the case and rebuttal briefs by interested parties in this review are addressed in the Issues and Decision Memorandum. A list of the issues which parties raised is attached to this notice as an Appendix. The Issues and Decision Memorandum is a public document and is on file in the Central Records Unit (“CRU”), Room 7046 of the main Department of Commerce building, as well as electronically via Enforcement and Compliance's Antidumping and Countervailing Duty Centralized Electronic Service System (“ACCESS”). ACCESS is available to registered users at http://access.trade.gov and to all parties in the CRU. In addition, a complete version of the Issues and Decision Memorandum can be accessed directly on the internet at http://www.trade.gov/enforcement/. The signed Issues and Decision Memorandum and the electronic versions of the Issues and Decision Memorandum are identical in content.

Final Determination of No Shipments

In the Preliminary Results, the Department preliminarily determined that Hangzhou Yingqing Material Co., Ltd. and Hangzhou Qingqing Mechanical Co., Ltd., did not have any reviewable transactions during the POR. We have not received any information to contradict this determination. Therefore, for these final results, the Department determines that Hangzhou Yingqing Material Co., Ltd. and Hangzhou Qingqing Mechanical Co., Ltd., did not have any reviewable entries of subject merchandise during the POR. Accordingly, consistent with the Department's refinement to its assessment practice in non-market economy (“NME”) cases, the Department intends to issue appropriate instructions to Customs and Border Protection (“CBP”) based on the final results of the review.⁵

⁵ See Non-Market Economy Antidumping Proceedings: Assessment of Antidumping Duties, 76 FR 65694 (October 24, 2011).

Final Results of the Administrative Review

Regarding the administrative review, the following weighted-average dumping margins exist for the period October 1, 2012, through September 30, 2013:

⁶ Shanghai Wells consists of Shanghai Wells Hanger Co., Ltd., and Hong Kong Wells Ltd.

⁷ The PRC-wide entity includes all companies for which the Department initiated a review but did not establish their eligibility for a separate rate: 1) Shaoxing Zhongbao Metal Manufactured Co., Ltd.; 2) Shaoxing Shunji Metal Clotheshorse Co., Ltd.; 3) Shanghai Jianhai International Trade Co., Ltd.; 4) Feirongda Weaving Material Co. Ltd.; 5) Hongye (HK) Group Development Co. Ltd.; 6) Liaoning Metals & Mineral Imp/Exp Corp.; 7) Ningbo Bingcheng Import & Export Co., Ltd.; 8) Ningbo Peacebird Import & Export Co., Ltd.; 9) Shang Zhou Leather Shoes Plant; 10) Shanghai Ding Ying Printing & Dyeing Co. Ltd.; 11) Shanghai Guoxing Metal Products Co. Ltd.; 12) Shanghai Lian Development Co. Ltd.; 13) Shanghai Shuang Qiang Embroidery Factory; 14) Shaoxing Guochao Metallic Products Co., Ltd.; 15) Shaoxing Liangbao Metal Manufactured Co. Ltd.; 16) Shaoxing Meideli Hanger Co. Ltd.; 17) Shaoxing Shuren Tie Co., Ltd.; 18) Shaoxing Zhongdi Foreign Trade Co., Ltd.; 19) Tianjin Innovation International; 20) Tianjin Tailai Import and Export Co. Ltd.; 21) Wesken International (Kunshan) Co. Ltd.; 22) Zhejiang Hongfei Plastic Industry Co. Ltd.; 23) Zhejiang Jaguar Import and Export Co. Ltd.; 24) Shangyu Baoxiang; 25) Shaoxing Dingli; 26) Lucky Cloud; 27) the Shaoxing Entity; and 28) Ningbo Dasheng.

Exporter | Weighted- average margin (percent)
Shanghai Wells Hanger Co., Ltd.⁶ | 14.53
PRC-wide Entity ⁷ | 187.25

Disclosure

We will disclose the calculations performed within five days of the date of publication of this notice to parties in this proceeding in accordance with 19 CFR 351.224(b).

Assessment Rates

Pursuant to section 751(a)(2)(A) of the Act and 19 CFR 351.212(b), the Department will determine, and CBP shall assess, antidumping duties on all appropriate entries of subject merchandise in accordance with the final results of this review. The Department intends to issue assessment instructions to CBP 15 days after the date of publication of these final results of review.

Where the respondent reported reliable entered values, we calculated importer- (or customer-) specific ad valorem rates by aggregating the dumping margins calculated for all U.S. sales to each importer (or customer) and dividing this amount by the total entered value of the sales to each importer (or customer).⁸ Where the Department calculated a weighted-average dumping margin by dividing the total amount of dumping for reviewed sales to that party by the total sales quantity associated with those transactions, the Department will direct CBP to assess importer-specific assessment rates based on the resulting per-unit rates.⁹ Where an importer- (or customer-) specific ad valorem or per-unit rate is greater than de minimis, the Department will instruct CBP to collect the appropriate duties at the time of liquidation.¹⁰ Where an importer- (or customer-) specific ad valorem or per-unit rate is zero or de minimis, the Department will instruct CBP to liquidate appropriate entries without regard to antidumping duties.¹¹

⁸ See 19 CFR 351.212(b)(1).

⁹ Id.

¹⁰ Id.

¹¹ See 19 CFR 351.106(c)(2).

The Department announced a refinement to its assessment practice in NME cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.¹²

¹² See Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by section 751(a)(2)(C) of the Act: (1) For the companies listed above, the cash deposit rate will be established in the final results of these reviews (except, if the rate is zero or de minimis, then zero cash deposit will be required); (2) for previously investigated or reviewed PRC and non-PRC exporters not listed above that received a separate rate in a prior segment of this proceeding, the cash deposit rate will continue to be the exporter-specific rate published for the most recent period; (3) for all PRC exporters of subject merchandise that have not been found to be entitled to a separate rate, the cash deposit rate will be the PRC-wide rate of 187.25 percent; and (4) for all non-PRC exporters of subject merchandise which have not received their own rate, the cash deposit rate will be the rate applicable to the PRC exporter that supplied that non-PRC exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. We request a timely written notification of the return or destruction of APO materials, or conversion to judicial protective order. Failure to comply with the regulations and terms of an APO is a violation which is subject to sanction.

We are issuing and publishing this administrative review and notice in accordance with sections 751(a)(1) and 777(i) of the Act.

Dated: March 6, 2015.
Paul Piquado,
Assistant Secretary for Enforcement and Compliance.

Appendix—Issues and Decision Memorandum

List of Topics Discussed in the Final Decision Memorandum

Summary

Background

Scope of the Order

Discussion of the Issues

Comment 1: Application of Adverse Facts Available

Comment 2: Selection of the Surrogate Country

Comment 3: Selection of Financial Statements

Comment 4: Whether the Department Should Revise the Surrogate Value for Brokerage and Handling (“B&H”)

Comment 5: Whether the Thai AUV for Corrugated Paper Is Aberrational

[FR Doc. 2015-05828 Filed 3-12-15; 8:45 am]

BILLING CODE 3510-DS-P